DEPARTMENT OF HEALTH AND HUMAN SERVICES

National Institutes of Health

Center for Scientific Review; Amended Notice of Meeting

Notice is hereby given of a change in the meeting of the Center for Scientific Review Special Emphasis Panel, November 19, 2010, 8 a.m. to November 19, 2010, 6 p.m., Embassy Suites at the Chevy Chase Pavilion, 4300 Military Road, NW., Washington, DC, 20015 which was published in the Federal Register on September 30, 2010, 75 FR 60465-60466.

The meeting will be held at the Embassy Suites Washington DC, 1250 22nd Street, NW., Washington, DC 20030. The meeting date and time remain the same. The meeting is closed to the public.

Dated: October 5, 2010.
Jennifer S. Spaeth,
Director, Office of Federal Advisory Committee Policy.

[FR Doc. 2010-25601 Filed 10-8-10; 8:45 am]

BILLING CODE 4140-01-P